DEPARTMENT OF ENERGY

Federal Energy Regulatory Commission

[Docket No. ER11-2256-000]

California Independent System Operator Corporation; Notice of Technical Conference

By order dated March 17, 2011, in Docket No. ER11-2256-000, the Federal Energy Regulatory Commission (Commission) directed staff to convene a technical conference regarding California Independent System Operator Corporation's (CAISO) Capacity Procurement Mechanism (CPM) and exceptional dispatch mitigation provisions.¹ Take notice that such conference will be held on April 28, 2011 at the Commission's headquarters at 888 First Street, NE., Washington, DC 20426, beginning at 9 a.m. (EDT) in the Commission Meeting Room (Room 2C). The technical conference will be led by Commission staff.

¹ Cal. Indep. Trans. Sys. Op. Corp., 134 FERC ¶ 61,211, at P 2 (2011).

The purpose of the technical conference is to discuss the issues raised by CAISO's proposed CPM compensation methodology and continuation of the existing exceptional dispatch market power mitigation provisions. A subsequent notice detailing the topics to be discussed will be issued in advance of the conference.

FERC conferences are accessible under section 508 of the Rehabilitation Act of 1973. For accessibility accommodations please send an e-mail to accessibility@ferc.gov or call toll free 1-866-208-3372 (voice) or 202-208-8659 (TTY); or send a fax to 202-208-2106 with the required accommodations.

All parties are permitted to attend. For more information on this conference, please contact Katheryn Hoke at katheryn.hoke@ferc.gov or (202) 502-8404, or Colleen Farrell at colleen.farrell@ferc.gov or (202) 502-6751.

Dated: April 1, 2011.
Kimberly D. Bose,
Secretary.

[FR Doc. 2011-8392 Filed 4-7-11; 8:45 am]

BILLING CODE 6717-01-P